DEPARTMENT OF COMMERCE

National Oceanic and Atmospheric Administration

[I.D. 010405A]

Marine Mammals; File No. 376-1520

AGENCY: National Marine Fisheries Service (NMFS), National Oceanic and Atmospheric Administration (NOAA), Commerce.

ACTION: Issuance of permit amendment.

SUMMARY: Notice is hereby given that Dr. James Hain, Associated Scientists at Woods Hole, Woods Hole, MA has been issued an amendment to a permit for scientific research on a variety of cetaceans in the North Atlantic, including endangered right whales (Eubalaena glacialis).

ADDRESSES: The amendment and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Dr. Tammy Adams or Ruth Johnson, (301)713-2289.

SUPPLEMENTARY INFORMATION: The requested amendment has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

On June 23, 1999, notice was published in the Federal Register (64 FR 33470) that a request for a permit to conduct research on a variety of cetaceans had been submitted by the above-named individual. The permit, which authorizes harassment of marine mammals in the North Atlantic during close approaches for photo-identification and behavioral observations, was issued on March 10, 2000 (65 FR 14947; March 20, 2000). This minor amendment extends the expiration date for the permit from March 31, 2005 to March 1, 2006. This minor amendment does not authorize harassment of any additional marine mammals. Rather, it allows the permit holder an additional 11 months to complete any research remaining from the previous permit year.

Issuance of this permit amendment, as required by the ESA, was based on a finding that such permit amendment: (1) was applied for in good faith; (2) will not operate to the disadvantage of such endangered species; and (3) is consistent with the purposes and policies set forth in section 2 of the ESA.

Dated: January 6, 2004.
Patrick Opay,
Acting Chief, Permits, Conservation and Education Division, Office of Protected Resources, National Marine Fisheries Service.

[FR Doc. 05-526 Filed 1-10-05; 8:45 am]

BILLING CODE 3510-22-S